DEPARTMENT OF THE INTERIOR

Bureau of Land Management

[MT-921-06-1320-EL-P; MTM 95732]

Notice of Invitation—Coal Exploration License Application MTM 95732

AGENCY: Bureau of Land Management, Interior.

ACTION: Notice of Invitation Coal Exploration License Application MTM 95732.

SUMMARY: Pursuant to section 2(b) of the Mineral Leasing Act of 1920, as amended by section 4 of the Federal Coal Leasing Amendments Act of 1976, 90 Stat. 1083, 30 U.S.C. 201 (b), and to the regulations adopted as 43 CFR 3410, interested parties are hereby invited to participate with Spring Creek Coal Company on a pro rata cost sharing basis in its program for the exploration of coal deposits owned by the United States of America in lands located in Big Horn County, Montana, encompassing 6,051.92 acres.

FOR FURTHER INFORMATION CONTACT: Robert Giovanini, Mining Engineer, or Connie Schaff, Land Law Examiner, Branch of Solid Minerals (MT-921), Bureau of Land Management (BLM), Montana State Office, Billings, Montana 59101-4669, telephone (406) 896-5084 or (406) 896-5060, respectively.

SUPPLEMENTARY INFORMATION: The lands to be explored for coal deposits are described as follows:

T.8 S., R.39 E., P.M.M.

Sec. 4: Lots 1 through 24

Sec. 5: Lots 1 through 24

Sec. 8: Lot 1

Sec. 14: S½NW¼NW¼, N½SW¼NW¼

Sec. 15: S½NE¼NE¼, N½SE¼NE¼

Sec. 20: E½

Sec. 21: S½N½, NW¼NW¼, S½

Sec. 22: NE¼NW¼, S½NW¼, N½N½SW¼, SW¼NW¼SW¼, SE¼NE¼SW¼, SW¼SW¼

Sec. 28: N½

Sec. 35: S½

T.9 S., R.39 E., P.M.M.

Sec. 1: Lots 1 through 4, W½E½, W½

Sec. 2: All

T.8 S., R.40 E., P.M.M.

Sec. 31: Lots 1 through 4, SE¼NW¼, E½SW¼

T.9 S., R.40 E., P.M.M.

Sec. 5: Lots 3 through 4, S½NW¼, SW¼

Sec. 6: Lots 1 through 7, S½NE¼, SE¼NW¼, E½SW¼, SE¼

Any party electing to participate in this exploration program must send written notice to both the State Director, BLM, 5001 Southgate Drive, Billings, Montana 59101-4669, and Spring Creek Coal Company, P.O. Box 67, Decker, Montana 59025. Such written notice must refer to serial number MTM 95732 and be received no later than 30 calendar days after publication of this Notice in the Federal Register or 10 calendar days after the last publication of this Notice in the Sheridan Press newspaper, whichever is later. This Notice will be published once a week for two (2) consecutive weeks in the Sheridan Press, Sheridan, Wyoming.

The proposed exploration program is fully described, and will be conducted pursuant to an exploration plan to be approved by the Bureau of Land Management. The exploration plan, as submitted by Spring Creek Coal Company, is available for public inspection at the BLM, 5001 Southgate Drive, Billings, Montana, during regular business hours (9 a.m. to 4 p.m.), Monday through Friday.

Dated: June 7, 2006.
Robert Giovanini,
Acting Chief, Branch of Solid Minerals.

[FR Doc. E6-11468 Filed 7-19-06; 8:45 am]

BILLING CODE 4310-$$-P